DEPARTMENT OF ENERGY

Federal Energy Regulatory Commission

Combined Notice of Filings #2

Take notice that the Commission received the following electric rate filings:

Docket Numbers: ER26-1182-001.

Applicants: Old Gold Energy Center, LLC.

Description: Notice of Non-Material Change in Status of Old Gold Energy Center, LLC.

Filed Date: 1/30/26.

Accession Number: 20260130-5564.

Comment Date: 5 p.m. ET 2/20/26.

Docket Numbers: ER26-1293-000.

Applicants: Duke Energy Florida, LLC.

Description: Tariff Amendment: DEF—Cancellations of RS Nos. 355, 356 and 357 to be effective 4/11/2026.

Filed Date: 2/6/26.

Accession Number: 20260206-5168.

Comment Date: 5 p.m. ET 2/27/26.

Docket Numbers: ER26-1294-000.

Applicants: California Independent System Operator Corporation.

Description: § 205(d) Rate Filing: 2026-02-06 Tariff Amendment to Support the Implementation of DAME/EDAM to be effective 12/31/9998.

Filed Date: 2/6/26.

Accession Number: 20260206-5169.

Comment Date: 5 p.m. ET 2/27/26.

Docket Numbers: ER26-1295-000.

Applicants: Southwest Power Pool, Inc.

Description: § 205(d) Rate Filing: 4620 Bison Grid GIA to be effective 1/29/2026.

Filed Date: 2/9/26.

Accession Number: 20260209-5027.

Comment Date: 5 p.m. ET 3/2/26.

Docket Numbers: ER26-1296-000.

Applicants: Southwest Power Pool, Inc.

Description: § 205(d) Rate Filing: 4621 Ironclad Grid GIA to be effective 1/29/2026.

Filed Date: 2/9/26.

Accession Number: 20260209-5030.

Comment Date: 5 p.m. ET 3/2/26.

Docket Numbers: ER26-1297-000.

Applicants: Southwest Power Pool, Inc.

Description: § 205(d) Rate Filing: Revisions to Attachments AE and AF Regarding the Market Monitor Dispute Process to be effective 4/11/2026.

Filed Date: 2/9/26.

Accession Number: 20260209-5031.

Comment Date: 5 p.m. ET 3/2/26.

Docket Numbers: ER26-1298-000.

Applicants: ISO New England Inc., New England Power Pool Participants Committee.

Description: § 205(d) Rate Filing: ISO New England Inc. submits tariff filing per 35.13(a)(2)(iii: ISO-NE/NEPOOL; Rev. Regarding Calculation of Load Weights Used in Zonal Prices to be effective 4/10/2026.

Filed Date: 2/9/26.

Accession Number: 20260209-5036.

Comment Date: 5 p.m. ET 3/2/26.

Docket Numbers: ER26-1299-000.

Applicants: Louisville Gas and Electric Company.

Description: Tariff Amendment: Notice of Termination of Joint Service Agreement FERC No. 26 to be effective 1/20/2026.

Filed Date: 2/9/26.

Accession Number: 20260209-5042.

Comment Date: 5 p.m. ET 3/2/26.

Docket Numbers: ER26-1300-000.

Applicants: PJM Interconnection, L.L.C.

Description: § 205(d) Rate Filing: Original GIA SA No. 7832; Project Identifier No. AF1-294/AF2-115/AG1-021 to be effective 4/11/2026.

Filed Date: 2/9/26.

Accession Number: 20260209-5065.

Comment Date: 5 p.m. ET 3/2/26.

Docket Numbers: ER26-1301-000.

Applicants: Southwest Power Pool, Inc.

Description: § 205(d) Rate Filing: Revisions to Clarify Use of FSE Trasnfer Points and WAPA-CRSP Resource Hubs to be effective 4/1/2026.

Filed Date: 2/9/26.

Accession Number: 20260209-5077.

Comment Date: 5 p.m. ET 3/2/26.

Docket Numbers: ER26-1302-000.

Applicants: PJM Interconnection, L.L.C.

Description: § 205(d) Rate Filing: GIA, SA No. 7824; AE1-196/AG2-477 and Notice of Cancellation of SA No. 7824 to be effective 1/8/2026.

Filed Date: 2/9/26.

Accession Number: 20260209-5092.

Comment Date: 5 p.m. ET 3/2/26.

Docket Numbers: ER26-1303-000.

Applicants: PJM Interconnection, L.L.C.

Description: § 205(d) Rate Filing: 8 Original NUCRAs, SA Nos. 7827, 7828, 7829, 7830, 7831, 7852, 7856, 7857 to be effective 4/11/2026.

Filed Date: 2/9/26.

Accession Number: 20260209-5124.

Comment Date: 5 p.m. ET 3/2/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 9, 2026.
Carlos D. Clay,
Deputy Secretary.

[FR Doc. 2026-02848 Filed 2-11-26; 8:45 am]

BILLING CODE 6717-01-P